DEPARTMENT OF TRANSPORTATION

Federal Aviation Administration

14 CFR Part 39

[Docket No. FAA-2008-0903; Directorate Identifier 2008-NM-123-AD]

RIN 2120-AA64

Airworthiness Directives; Cessna Model 560 Airplanes

AGENCY: Federal Aviation Administration (FAA), Department of Transportation (DOT).

ACTION: Notice of proposed rulemaking (NPRM).

SUMMARY: The FAA proposes to supersede an existing airworthiness directive (AD) that applies to certain Cessna Model 560 airplanes. The existing AD currently requires installing new minimum airspeed placards to notify the flightcrew of the proper airspeeds for operating in both normal and icing conditions. The existing AD also requires revising the airplane flight manual to provide limitations and procedures for operating in icing conditions, for operating with anti-ice systems selected “on” independent of icing conditions, and for recognizing and recovering from inadvertent stall. The existing AD also provides an optional terminating action for the placard installation. This proposed AD would require the previously optional terminating action. This proposed AD results from an evaluation of in-service airplanes following an accident. The evaluation indicated that some airplanes might have an improperly adjusted stall warning system. We are proposing this AD to prevent an inadvertent stall due to the inadequate stall warning margin provided by an improperly adjusted stall warning system, which could result in loss of controllability of the airplane.

DATES: We must receive comments on this proposed AD by October 6, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Cessna Aircraft Co., P.O. Box 7706, Wichita, Kansas 67277.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Bob Busto, Aerospace Engineer, Systems and Propulsion Branch, ACE-116W, FAA, Wichita Aircraft Certification Office, 1801 Airport Road, Room 100, Mid-Continent Airport, Wichita, Kansas 67209; telephone (316) 946-4157; fax (316) 946-4107.

SUPPLEMENTARY INFORMATION:

Comments Invited

We invite you to send any written relevant data, views, or arguments about this proposed AD. Send your comments to an address listed under the ADDRESSES section. Include “Docket No. FAA-2008-0903; Directorate Identifier 2008-NM-123-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On November 5, 2007, we issued AD 2007-23-13, amendment 39-15259 (72 FR 64135, November 15, 2007), for certain Cessna Model 560 airplanes. That AD requires installing new minimum airspeed placards to notify the flightcrew of the proper airspeeds for operating in both normal and icing conditions. That AD also requires revising the airplane flight manual to provide limitations and procedures for operating in icing conditions, for operating with anti-ice systems selected “on” independent of icing conditions, and for recognizing and recovering from inadvertent stall. That AD also provides an optional terminating action for the placard installation. That AD resulted from an evaluation of in-service airplanes following an accident. The evaluation indicated that some airplanes may have an improperly adjusted stall warning system. We issued that AD to prevent an inadvertent stall due to the inadequate stall warning margin provided by an improperly adjusted stall warning system, which could result in loss of controllability of the airplane.

Actions Since Existing AD Was Issued

The preamble to AD 2007-23-13 explains that we consider the requirements “interim action” and were considering further rulemaking to require a functional test of the angle-of-attack (AOA) system to adjust the calibration settings of the AOA system, which, in addition to the AFM revisions, would constitute terminating action for the placard installation required by this AD. The interim action was intended to heighten flight crew awareness as to the proper operational airspeeds, aircraft characteristics, and stall recovery techniques. We now have determined that further rulemaking is indeed necessary, and this proposed AD follows from that determination.

Relevant Service Information

We have reviewed Cessna Alert Service Letters ASL560-34-34 (for airplanes equipped with a single AOA system) and ASL560-34-35 (for airplanes equipped with a dual AOA system), both Revision 3, both dated March 6, 2008, both including Attachments. We referred to Revision 1 of the alert service letters as the appropriate source of service information for doing the optional terminating action (i.e., doing a functional test of the AOA system) specified in AD 2007-23-13. Revision 3 contains essentially the same procedures as Revision 1. Revision 3 includes changes to the cruise configuration tolerance and to the approach configuration, and standardizes certain nomenclature.

We have also reviewed Cessna Service Bulletin SB560-34-143, Revision 1, dated November 21, 2007. We referred to the original issue, dated September 7, 2007, as the appropriate source of service information for doing the placard installation specified in AD 2007-23-13. Revision 1 contains essentially the same procedures as the original issue and adds references to certain temporary changes (which are already specified in AD 2007-23-13).

Accomplishing the actions specified in the service information is intended to adequately address the unsafe condition.

FAA's Determination and Requirements of the Proposed AD

We have evaluated all pertinent information and identified an unsafe condition that is likely to develop on other airplanes of the same type design. For this reason, we are proposing this AD, which would supersede AD 2007-23-13 and would retain the requirements of the existing AD. This proposed AD would also require accomplishing the terminating action specified in the alert service letters described previously. This proposed AD would also require sending the functional test results to the manufacturer.

Costs of Compliance

There are about 538 airplanes of the affected design in the worldwide fleet. The following table provides the estimated costs for U.S. operators to comply with this proposed AD. There are about 400 U.S. registered airplanes.

Estimated Costs
Action | Work hours | Average labor rate per hour | Cost per airplane | Fleet cost
AFM Revision (required by AD 2007-23-13) | 1 | $80 | $80 | $32,000
Placard Installation (required by AD 2007-23-13) | 1 | 80 | 80 | 32,000
Functional Test (new proposed action) | 8 | 80 | 640 | 256,000

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15259 (72 FR 64135, November 15, 2007) and adding the following new airworthiness directive (AD):

Cessna Aircraft Company: Docket No. FAA-2008-0903; Directorate Identifier 2008-NM-123-AD.

Comments Due Date

(a) The FAA must receive comments on this AD action by October 6, 2008.

Affected ADs

(b) This AD supersedes AD 2007-23-13.

Applicability

(c) This AD applies to Cessna Model 560 airplanes, certificated in any category, serial numbers (S/Ns) 560-0001 through 0538 inclusive.

Unsafe Condition

(d) This AD results from an evaluation of in-service airplanes following an accident. The evaluation indicated that some airplanes may have an improperly adjusted stall warning system. We are issuing this AD to prevent an inadvertent stall due to the inadequate stall warning margin provided by an improperly adjusted stall warning system, which could result in loss of controllability of the airplane.

Compliance

(e) You are responsible for having the actions required by this AD performed within the compliance times specified, unless the actions have already been done.

Restatement of Requirements of AD 2007-23-13

Airplane Flight Manual (AFM) Revision

(f) Within 14 days after November 30, 2007 (the effective date of AD 2007-23-13), revise the Operating Limitations, Normal Procedures, Emergency Procedures, and the Approach and Landing sections of the AFM to include the information in the temporary changes (TCs) identified in Table 1 of this AD, as applicable, except as required by paragraph (k) of this AD. These TCs provide limitations and procedures for operating in icing conditions, for operating with anti-ice systems selected “on” independent of icing conditions, and for recognizing and recovering from inadvertent stall. Operate the airplane according to the limitations and procedures in the applicable TCs.

Note 1: This may be done by inserting a copy of the applicable TCs into the applicable AFM. When these TCs have been included in the general revisions of the AFM, the general revisions may be inserted into the AFM (in lieu of the applicable TCs), provided the relevant information in the general revision is identical to that in the applicable TCs.

Table 1—Cessna Model 560 TCs
Airplanes | Applicable TC
Model 560 airplanes, S/Ns 560-0001 through -0259 inclusive | 560FM TC-R13-08, dated August 31, 2007, to the Cessna Model 560 Citation V AFM. 560FM TC-R13-09, dated August 31, 2007, to the Cessna Model 560 Citation V AFM.
| 560FM TC-R13-10, dated August 31, 2007, to the Cessna Model 560 Citation V AFM.
| 560FM TC-R13-12, dated August 31, 2007, to the Cessna Model 560 Citation V AFM.
| 560FM TC-R13-13, dated August 31, 2007, to the Cessna Model 560 Citation V AFM.
| 560FM TC-R13-14, dated October 2, 2007, to the Cessna Model 560 Citation V AFM.
| 560FM TC-R13-15, dated October 2, 2007, to the Cessna Model 560 Citation V AFM.
| 560FM TC-R13-16, dated October 2, 2007, to the Cessna Model 560 Citation V AFM.
| 560FM TC-R13-17, dated October 2, 2007, to the Cessna Model 560 Citation V AFM.
| 560FM TC-R13-18, dated October 2, 2007, to the Cessna Model 560 Citation V AFM.
| 560FM TC-R13-19, dated October 2, 2007, to the Cessna Model 560 Citation V AFM.
| 560FM TC-R13-20, dated October 2, 2007, to the Cessna Model 560 Citation V AFM.
Model 560 airplanes, S/Ns 560-0260 through -0538 inclusive | 56FMA TC-R11-16, dated August 31, 2007, to the Cessna Model 560 Citation Ultra AFM. 56FMA TC-R11-17, dated August 31, 2007, to the Cessna Model 560 Citation Ultra AFM.
| 56FMA TC-R11-19, dated August 31, 2007, to the Cessna Model 560 Citation Ultra AFM.
| 56FMA TC-R11-20, dated August 31, 2007, to the Cessna Model 560 Citation Ultra AFM.
| 56FMA TC-R11-21, dated August 31, 2007, to the Cessna Model 560 Citation Ultra AFM.
| 56FMA TC-R11-23, dated October 2, 2007, to the Cessna Model 560 Citation Ultra AFM.
| 56FMA TC-R11-24, dated October 2, 2007, to the Cessna Model 560 Citation Ultra AFM.
| 56FMA TC-R11-25, dated October 2, 2007, to the Cessna Model 560 Citation Ultra AFM.
| 56FMA TC-R11-26, dated October 2, 2007, to the Cessna Model 560 Citation Ultra AFM.
| 56FMA TC-R11-27, dated October 2, 2007, to the Cessna Model 560 Citation Ultra AFM.
| 56FMA TC-R11-28, dated October 2, 2007, to the Cessna Model 560 Citation Ultra AFM.
| 56FMA TC-R11-29, dated October 2, 2007, to the Cessna Model 560 Citation Ultra AFM.
| 56FMA TC-R11-30, dated October 2, 2007, to the Cessna Model 560 Citation Ultra AFM.

Placard Installation

(g) Within 30 days after November 30, 2007, install new minimum airspeed placards to notify the flightcrew of the proper airspeeds for operating in normal and icing conditions, in accordance with the Accomplishment Instructions of Cessna Service Bulletin SB560-34-143, dated September 7, 2007, including Attachment and Service Bulletin Supplemental Data; or Cessna Service Bulletin SB560-34-143, Revision 1, dated November 21, 2007. As of the effective date of this AD, only Revision 1 may be used. The placards must be installed above or near the pilot and copilot attitude indicators or primary flight displays and must be in clear view of the pilot and copilot. The placards may be removed when the actions specified in paragraphs (i) and (j) of this AD have been accomplished.

No Maintenance Transaction Report Required for Cessna Service Bulletin

(h) Although Cessna Service Bulletin SB560-34-143, dated September 7, 2007, including Attachment and Service Bulletin Supplemental Data; and Cessna Service Bulletin SB560-34-143, Revision 1, dated November 21, 2007; referred to in paragraph (g) of this AD, specify to submit a maintenance transaction report to the manufacturer, this AD does not include that requirement.

New Requirements of This AD

Terminating Action

(i) Within 6 months after the effective date of this AD, do a functional test of the angle-of-attack (AOA) system, and adjust the calibration settings of the AOA system as applicable, in accordance with Cessna Alert Service Letter ASL560-34-34 (for airplanes equipped with a single AOA system) or ASL560-34-35 (for airplanes equipped with a dual AOA system), both Revision 1, both dated October 2, 2007, both including Attachments, as applicable; or Cessna Alert Service Letter ASL560-34-34 or ASL560-34-35, both Revision 3, both dated March 6, 2008, both including Attachments, as applicable. As of the effective date of this AD, only Revision 3 may be used. Doing the functional test of the AOA system, adjusting the calibration settings of the AOA system as applicable, and submitting the AOA system test data as specified in paragraph (j) of this AD, terminates the placard installation required by paragraph (g) of this AD.

Note 2: Maintenance Manual Revision 24 of Cessna 560 Maintenance Manual 56MM has been changed to reflect the intent of the ASLs for the maintenance actions and periodic inspections of the AOA/Stall Warning System.

Reporting AOA System Test Data

(j) Submit the AOA system test data report for the functional test specified in paragraph (i) of this AD to Glenn Todd, Citation Customer Support Engineer, Department 572, P.O. Box 7706, Wichita, KS 67277-7706, e-mail: gatodd@cessna.textron.com, fax: 1-316-517-8500 or 1-316-206-2337. Submit the report at the applicable time specified in paragraph (j)(1) or (j)(2) of this AD. The report must include the AOA test data, the airplane serial number and registration number, and the number of landings and flight hours on the airplane. Under the provisions of the Paperwork Reduction Act (44 U.S.C. 3501 et seq.), the Office of Management and Budget (OMB) has approved the information collection requirements contained in this AD and has assigned OMB Control Number 2120-0056.

(1) If the functional test was done after November 30, 2007: Submit the report within 30 days after doing the functional test.

(2) If the inspection was accomplished prior to November 30, 2007: Submit the report within 30 days after November 30, 2007.

Removal of Warning From the Limitations Section of the AFM

(k) For airplanes on which the actions required by paragraph (i) of this AD have been done: Within 30 days after doing the actions required by paragraph (i) of this AD or within 30 days after the effective date of this AD, whichever occurs later, revise the Limitations Section of the AFM by removing the following Warning statement:

“Warning: Stick Shaker May Not Activate Prior to Buffet/Roll-Off If Airspeed Is Reduced Below the Appropriate Minimum Speed.”

No Maintenance Transaction Report Required for Cessna Service Letters

(l) Cessna Alert Service Letters ASL560-34-34 and ASL560-34-35, both Revision 1, both dated October 2, 2007, both including Attachments; and Cessna Alert Service Letters ASL560-34-34 and ASL560-34-35, both Revision 3, both dated March 6, 2008, both including Attachments; specify to submit a maintenance transaction report to the manufacturer. This AD does not include that requirement.

Actions Accomplished According to Previous Issue of Service Bulletin

(m) Actions accomplished before the effective date of this AD in accordance with Cessna Alert Service Letter ASL560-34-34 or ASL560-34-35, both Revision 2, both dated January 11, 2008, both including Attachments, are considered acceptable for compliance with the corresponding action specified in paragraph (i) of this AD.

Alternative Methods of Compliance (AMOCs)

(n)(1) The Manager, Wichita Aircraft Certification Office (ACO), FAA, ATTN: Bob Busto, Aerospace Engineer, Systems and Propulsion Branch, ACE-116W, FAA, Wichita ACO, 1801 Airport Road, Room 100, Mid-Continent Airport, Wichita, Kansas 67209; telephone (316) 946-4157; fax (316) 946-4107; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on August 12, 2008.
Michael J. Kaszycki,
Acting Manager, Transport Airplane Directorate, Aircraft Certification Service.

[FR Doc. E8-19386 Filed 8-20-08; 8:45 am]

BILLING CODE 4910-13-P